DEPARTMENT OF HOMELAND SECURITY

U.S. Customs and Border Protection

National Customs Automation Program (NCAP) Test Concerning the Submission of Certain Data Required by the Environmental Protection Agency and the Food Safety and Inspection Service Using the Partner Government Agency Message Set Through the Automated Commercial Environment (ACE)

AGENCY: U.S. Customs and Border Protection, Department of Homeland Security.

ACTION: General notice.

SUMMARY: This document announces U.S. Customs and Border Protection's (CBP's) plan to conduct a National Customs Automation Program (NCAP) test concerning transmission of electronic filings of certain Environmental Protection Agency (EPA) and the U.S. Department of Agriculture, Food Safety and Inspection Service (FSIS) import data to CBP for commodities regulated by these agencies. The test will involve using the Automated Commercial Environment (ACE) Partner Government Agency (PGA) Message Set and the Automated Broker Interface (ABI) to transmit the data. PGA Message Set data may be submitted only for certain entries filed at certain ports.

This test is in furtherance of key CBP International Trade Data System (ITDS) initiatives as provided in the Security and Accountability for Every Port Act (SAFE) of 2006 to achieve the vision of ACE as the “single window” for the Government and trade community by automating and enhancing the interaction between international trade partners, CBP, and PGAs by facilitating electronic collection, processing, sharing, and review of trade data and documents required by Federal agencies during the cargo import and export process. The initiatives will significantly increase efficiency and reduce costs over the manual, paper-based interactions that have been in place. The PGA Message Set will improve communication between agencies and filers regarding imports and when applicable, will allow test participants to submit the required data once rather than submitting data separately to each agency, resulting in quicker processing. During this test, participants will collaborate with CBP, EPA, and FSIS to examine the effectiveness of the “single window” capability.

This notice invites public comment concerning the test program, provides legal authority for the test, explains the purpose of the test and the test participant responsibilities, identifies the regulation that will be waived under the test, provides the eligibility and selection criteria for participation in the test, provides a link to a list of ports that are accepting PGA Message Set data under this test, explains the application process, and determines the duration of the test. This document also explains the repercussions and appeals process for misconduct under the test.

DATES: The test will commence January 13, 2014. Comments will be accepted through the duration of the test.

ADDRESSES: To submit comments concerning this test program: Send an email to Stephen Hilsen, Director, Business Transformation, ACE Business Office (ABO), Office of International Trade at stephen.r.hilsen@cbp.dhs.gov. In the subject line of an email, please use, “Comment on PGA Message Set Test FRN”.

Any party seeking to participate in the PGA Message Set test should contact their client representative. Interested parties without an assigned client representative should submit an email to Susan Maskell at susan.c.maskell@cbp.dhs.gov with the subject heading “PGA Message Set Test FRN-Request to Participate”.

Any party seeking to participate in this test must provide CBP, in their request to participate, their filer code and the port(s) at which they are interested in filing the appropriate PGA Message Set information. At this time, PGA Message Set data may be submitted only for entries filed at certain ports. A current listing of those ports may be found on the following Web site: http://www.cbp.gov/linkhandler/cgov/trade/automated/modernization/whats_new/info_notice_trade.ctt/info_notice_trade.pdf.

FOR FURTHER INFORMATION CONTACT: For technical questions related to the Automated Commercial Environment (ACE) or Automated Broker Interface (ABI) transmissions, contact your assigned client representative. Interested parties without an assigned client representative should direct their questions to Susan Maskell at susan.c.maskell@cbp.dhs.gov. For PGA related questions, contact Emi Wallace emi.r.wallace@cbp.dhs.gov.

SUPPLEMENTARY INFORMATION:

Background

I. The National Customs Automation Program

The National Customs Automation Program (NCAP) was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of the Automated Commercial Environment (ACE), the planned successor to the Automated Commercial System (ACS). ACE is an automated and electronic system for commercial trade processing which is intended to streamline business processes, facilitate growth in trade, ensure cargo security, and foster participation in global commerce, while ensuring compliance with U.S. laws and regulations and reducing costs for U.S. Customs and Border Protection (CBP) and all of its communities of interest. The ability to meet these objectives depends on successfully modernizing CBP's business functions and the information technology that supports those functions.

CBP's modernization efforts are accomplished through phased releases of ACE component functionality designed to replace a specific legacy ACS function. Each release will begin with a test and will end with mandatory use of the new ACE feature, thus retiring the legacy ACS function. Each release builds on previous releases and sets the foundation for subsequent releases.

For the convenience of the public, a chronological listing of Federal Register publications detailing ACE test developments in Entry, Summary, Accounts and Revenue (ESAR) is set forth below in Section XV, entitled, “Development of ACE Prototypes.” The procedures and criteria related to participation in the prior ACE tests remain in effect unless otherwise explicitly changed by this or subsequent notices published in the Federal Register.

The Automated Broker Interface (ABI) allows participants to electronically file required import data with CBP and transfers that data into ACE.

II. Authorization for the Test

The Customs Modernization provisions in the North American Free Trade Agreement Implementation Act provide the Commissioner of CBP with authority to conduct limited test programs or procedures designed to evaluate planned components of the NCAP. The test described in this notice is authorized pursuant to § 101.9(b) of title 19 of the Code of Federal Regulations (19 CFR 101.9(b)) which provides for the testing of NCAP programs or procedures. See Treasury Decision (T.D.) 95-21.

III. International Trade Data System (ITDS)

This test is also in furtherance of the International Trade Data System (ITDS) key initiatives, which is statutorily required by section 405 of the Security and Accountability for Every (SAFE) Port Act of 2006, Public Law 109-347, 120 Stat. 1884. The purpose of ITDS, as defined by section 4 of the SAFE Port Act of 2006, is to eliminate redundant information requirements, efficiently regulate the flow of commerce, and effectively enforce laws and regulations relating to international trade, by establishing a single portal system, operated by CBP, for the collection and distribution of standard electronic import and export data required by all participating Federal agencies.

CBP is developing ACE as the “single window” for the trade community to comply with the ITDS requirement established by the SAFE Port Act of 2006. To date, other ITDS key initiatives have included: The test of the Document Image System (see 77 FR 20835, dated April 6, 2012; 78 FR 44142, dated July 23, 2013; and 78 FR 53466, dated August 29, 2013), which allows trade members to electronically supply documentation needed during the cargo release and entry summary processes to CBP and specified Federal agencies; and PGA Interoperability, which enables CBP to share information, documents, and events of interest with PGAs in an automated manner. CBP will publish Federal Register notices as the capabilities of the Message Set expand.

IV. Partner Government Agency Message Set

The Partner Government Agency (PGA) Message Set is the data needed to satisfy the PGA reporting requirements. ACE enables the message set by acting as the “single window” for the submission of trade-related data required by the PGAs only once to CBP.

This data must be submitted at any time prior to the arrival of the merchandise on the conveyance transporting the cargo to the United States as part of an ACE Entry Summary. The data will be validated and made available to the relevant PGAs involved in import, export, and transportation-related decision making. The data will be used to fulfill merchandise entry requirements and will allow for earlier release decisions and more certainty for the importer in determining the logistics of cargo delivery. Also, by virtue of being electronic, the PGA Message Set will eliminate the necessity for the submission and subsequent handling of paper documents.

At this time, ACE is prepared to accept certain PGA data elements for the Environmental Protection Agency (EPA) and the U.S. Department of Agriculture, Food Safety and Inspection Service (FSIS) for type “01” (consumption) and type “11” (informal) commercial entries filed at specified ports. These data elements are generally those found in the current paper form (EPA Forms 3520-1 and 3520-21; and FSIS Form 9540-1) and also include data submissions related to Ozone Depleting Substances (ODS) imports, which are currently handled via phone, email, and/or paper communication. These data elements are set forth in the supplemental Customs and Trade Automated Interface Requirements (CATAIR) guidelines for both EPA and FSIS. These technical specifications, including the CATAIR chapters can be found at the following link: http://www.cbp.gov/xp/cgov/trade/automated/modernization/ace_edi_messages/catair_main/abi_catair/catair_chapters/future_pga_set_docs/.

At this time, a limited number of ports will be accepting PGA Message Set data. A list of those ports is provided on the following Web site: http://www.cbp.gov/linkhandler/cgov/trade/automated/modernization/whats_new/info_notice_trade.ctt/info_notice_trade.pdf. CBP may expand to additional ports in the future.

V. The Environmental Protection Agency (EPA) and the U.S. Department of Agriculture, Food Safety and Inspection Service (FSIS) Test

This document announces CBP's plan to conduct a new test concerning certain electronic filings of EPA and FSIS import data with CBP for commodities regulated by these agencies that are imported into the United States. This new PGA Message Set capability will satisfy the EPA (ODS and Vehicle and Engine (V&E) programs only) and FSIS (meat, poultry, and egg products) data requirements for formal and informal consumption entries through electronic filing in ACE as opposed to filing in paper. Submission of the PGA Message Set will enable the Trade to have a CBP-managed “single window” for data submission required by the EPA and FSIS during the cargo importation and review process.

a. U.S. Environmental Protection Agency

The Clean Air Act, as amended (42 U.S.C. 7401 et seq.), generally prohibits importation into the United States of any motor vehicle, motor vehicle engine, nonroad engine and equipment that has not been certified by EPA to conform to EPA emission standards and requirements. U.S. EPA emission standards are in effect for light-duty motor vehicles, motorcycles, heavy-duty on-highway engines, nonroad engines and recreational vehicles (dirt bikes, ATVs, ORUVs, and snowmobiles) and stationary engines. These standards apply regardless of whether the engines are new or used, manufactured domestically or abroad. Currently, a paper EPA importation declaration form (EPA Form 3520-1 for on-road vehicles, or EPA Form 3520-21 for nonroad, off-road, and heavy-duty highway and stationary engines) must be submitted for most vehicle and engine importations.

The PGA Message Set will eliminate these paperwork filings for participating importers and as a result, reduce the overall paperwork burden on the port associated with these EPA regulated shipments. It will also provide advance electronic information on regulated shipments to allow the system to make electronic checks of mandatory declaration information including certificate numbers which allows EPA to make pre-arrival admissibility decisions, thereby focusing CBP and EPA resources on shipments of interest and using those resources to identify and resolve the health and safety issues discovered by the submission of advance data to EPA.

Under Title VI of the Clean Air Act, EPA also regulates the import of ODS into the United States (see 40 CFR Part 82, Subpart A). Importers of virgin ODS are required to have import allowances or meet the criteria for specific EPA exemptions. Allowance holders are able to trade allowances. Importers of used ODS must petition EPA forty (40) days prior to the import, and if approved, EPA will issue a non-objection notice, indicating the agency's approval of the import. Any information exchange related to ODS imports, such as which importers have import allowances or exemptions, are currently handled via phone, email, and/or paper communication.

The electronic data transmitted by the filer using the PGA Message Set allows CBP to electronically share that data with EPA for review. This process will improve the current communication process between CBP, EPA and filers concerning imports of ODS, allowing EPA to perform automatic electronic checks of current allowance holders and importers of exempt ODS, resulting in quicker import processing. The sharing of this electronic data will also provide advance electronic information on regulated shipments to EPA to allow them to make pre-arrival admissibility decisions thereby focusing CBP and EPA resources on shipments of interest and using those resources to identify and resolve the health and safety issues discovered by the submission of advance data to EPA.

At this time, the EPA aspect of the test will include only entries originating in the ocean environment. Land border arrivals, both truck and rail, and air arrivals will be included in later stages of the test. Upon acceptance into this test, participants will be required to transmit electronic EPA data for entries originating in the ocean environment for the EPA forms specified in this notice as well as for the ODS related data elements.

b. U.S. Department of Agriculture—Food Safety and Inspection Service

The Federal Meat Inspection Act (FMIA) (21 U.S.C. 601 et seq.) and the Poultry Products Inspection Act (PPIA) (21 U.S.C. 451 et seq.) prohibit the importation of meat and poultry products into the United States if such products are adulterated or misbranded and unless they comply with all the inspection, building construction standards, and all other provisions of the Acts and regulations as are applied to domestic products (21 U.S.C. 466 and 620). The Egg Products Inspection Act (EPIA) (21 U.S.C. 1031 et seq.) prohibits the importation of egg products unless they have been processed under an approved continuous inspection system of the government of the foreign country of origin and comply with all other provisions of the Act and regulations that apply to United States domestic products (21 U.S.C. 1046). FSIS meat, poultry, and egg products import regulations require importers to apply for the inspection of imported products (9 CFR 327.5, 381.198, and 590.920). Applicants complete FSIS Form 9540-1, “Import Inspection Application and Report,” for meat, poultry products, and egg products.

On May 29, 2012, FSIS implemented the import component of the Public Health Information System (PHIS), a web-based data analytics system. PHIS provides the capability for a streamlined, electronic alternative to the paper-based import inspection application process. The electronic data transmitted by the filer using the PGA Message Set allows CBP to electronically share that data with PHIS, which electronically links with CBP's ACE system.

The PGA Message Set will provide the additional information that FSIS requires from importers to complete the FSIS import application process. Using the PGA Message Set, ACE will enable U.S. importers and customs brokers to enter FSIS import inspection application information directly into the Automated Broker Interface (ABI). FSIS anticipates that the data transmitted by the filer using the PGA Message Set will help FSIS prepare to completely transition the FSIS Form 9540-1 to an electronic form in PHIS (see 78 FR 19182, dated March 29, 2013) for additional information including how to access the FSIS Compliance Guide). The electronic data transmitted to ACE using the PGA Message Set will expedite the delivery of information to FSIS by providing the data to FSIS before the products arrive for inspection thereby allowing FSIS to more effectively track and control ineligible shipments, efficiently inspect shipments when they arrive and improve the ability to prevent non-compliant products from reaching American consumers.

At this time, the FSIS aspect of the test will include only entries originating in the ocean and truck environments. Air and rail arrivals will be included in later stages of the test. Upon acceptance into this test, participants will be required to transmit electronic FSIS data for entries originating in the ocean and truck environments.

On March 29, 2013, FSIS published a notice in the Federal Register (78 FR 19182) announcing a pilot program intended to test the transfer of data from the PGA Message Set in ACE to PHIS. That notice also invited industry participation in the Pilot.

VI. Test Participant Responsibilities

PGA Message Set test participants will be required to:

File the applicable data with the ports that are accepting the ACE PGA Message Set data. A current list of those ports will be posted on the following Web site: http://www.cbp.gov/linkhandler/cgov/trade/automated/modernization/whats_new/info_notice_trade.ctt/info_notice_trade.pdf;

File, when applicable, the data elements contained in the following forms using the PGA Message Set. This information must be electronically transmitted to ACE using the ACE Entry Summary at any time prior to the arrival of the merchandise on the conveyance transporting the cargo to the United States. The electronic transmission of this data is in lieu of filing the paper forms specified below:

○ EPA Form 3520-1 for on-road vehicles (only for entries originating in the ocean environment);

○ EPA Form 3520-21 for nonroad, off-road, and heavy-duty highway and stationary engines (only for entries originating in the ocean environment);

○ Information exchange related to ODS imports (only for entries originating in the ocean environment); and

○ FSIS Form 9540-1 for meat, poultry products, and egg products (only for entries originating in the ocean and truck environments);

Include PGA Message Set import filings only as part of an ACE Entry Summary certified for cargo release;

Transmit import filings to CBP via ABI in response to a request for documentation or in response to a request for release information for certified ACE Entry Summaries;

Only transmit to CBP information that has been requested by CBP, the EPA, or FSIS; and

Take part in a CBP evaluation of this test.

Participants are reminded that they should only file documents that CBP can accept electronically. The documents CBP can accept electronically are set forth in the Federal Register (77 FR 20835) notice announcing the Document Image System (DIS) Test (see Section XV below) and in the Automated Invoice Interface Chapter of the CATAIR. If CBP cannot accept the additional information electronically, the filer must file the additional information by paper.

VII. Waiver of Regulation Under the Test

For purposes of this test, 19 CFR 12.74(b) will be waived for test participants only insofar as eliminating the requirement to file the paper version of EPA Form 3520-21 and requiring in its place the electronic submission of the data elements contained in EPA Form 3520-21.

This document does not waive any recordkeeping requirements found in part 163 of title 19 of the CFR (19 CFR part 163) and the Appendix to part 163 (commonly known as the “(a)(1)(A) list”).

VIII. Test Participant Eligibility and Selection Criteria

To be eligible to apply for this test, the applicant must:

Be a self-filing importer who has the ability to file ACE Entry Summaries certified for cargo release or a broker who has the ability to file ACE Entry Summaries certified for cargo release; and

File entries for EPA and FSIS commodities that are the subject of this test.

Except for those interested in participating in the ODS portion of the test, CBP will accept an unlimited number of participants for the test. CBP will accept less than ten (10) participants in the ODS portion of the test. For the ODS test applicants, CBP will give consideration to the order in which participation requests are received.

Test applicants must meet the eligibility criteria described in this document to participate in the test program.

IX. Application Process

Any party seeking to participate in the PGA Message Set test should email their CBP Client Representative, ACE Business Office (ABO), Office of International Trade. Interested parties without an assigned client representative should submit an email to Susan Maskell at susan.c.maskell@cbp.dhs.gov. All email communications should include the subject heading “PGA Message Test FRN—Request to Participate in the Vehicles and Engines Portion of the Test”, “PGA Message Test FRN—Request to Participate in the ODS Portion of the Test”, or “PGA Message Test FRN—Request to Participate in the FSIS Form 9540-1 Portion of the Test.”

Parties who have previously responded to the FSIS notice published in the Federal Register (78 FR 19182) on March 29, 2013, need not resubmit a request to participate in this test. CBP will obtain the list of interested participants from FSIS and will follow up with them directly.

Emails sent to the CBP client representative or Susan Maskell must include the applicant's filer code and the port(s) at which they are interested in filing the appropriate PGA Message Set information. Client representatives will work with test participants to provide information regarding the transmission of this data.

CBP will begin to accept applications upon the date of publication of this notice and will continue to accept applications throughout the duration of the test. CBP will notify the selected applicants by email of their selection and the starting date of their participation. Selected participants may have different starting dates. Anyone providing incomplete information, or otherwise not meeting participation requirements, will be notified by email and given the opportunity to resubmit their application.

X. Test Duration

For both EPA and FSIS, the initial phase of the test will begin on January 13, 2014 and is intended to last approximately two years from the January 13, 2014.

At the conclusion of the test, an evaluation will be conducted to assess the effect that the PGA Message Set has on expediting the submission of EPA and FSIS importation-related data elements and the processing of EPA and FSIS entries. The final results of the evaluation will be published in the Federal Register and the Customs Bulletin as required by section 101.9(b)(2) of the CBP regulations (19 CFR 101.9(b)(2)).

Any future expansion in ACE including but not limited to any additional PGA commodities and eligible environments (i.e., truck, rail, air) will be announced via a separate Federal Register notice.

XI. Comments

All interested parties are invited to comment on any aspect of this test at any time. CBP requests comments and feedback on all aspects of this test, including the design, conduct and implementation of the test, in order to determine whether to modify, alter, expand, limit, continue, end, or fully implement this program.

XII. Paperwork Reduction Act

The collections of information for all aspects of this test, except for the collections concerning the ODS portion of the test, are approved by the Office of Management and Budget (OMB), pursuant to the Paperwork Reduction Act of 1995, Public Law 104-13, under the following OMB control numbers:

• EPA Form 3520-1: OMB Number 2060-0095

• EPA Form 3520-21: OMB Number 2060-0320

• FSIS Form 9540-1: OMB Number 0583-0094

The ODS portion of the test will be exempt from the requirements of the Paperwork Reduction Act of 1995, Public Law 104-13 because CBP will be accepting less than 10 (ten) participants.

XIII. Confidentiality

All data submitted and entered into the ACE Portal is subject to the Trade Secrets Act (18 U.S.C. 1905) and is considered confidential, except to the extent as otherwise provided by law. As stated in previous notices, participation in this or any of the previous ACE tests is not confidential and upon a written Freedom of Information Act (FOIA) request, a name(s) of an approved participant(s) will be disclosed by CBP in accordance with 5 U.S.C. 552.

XIV. Misconduct Under the Test

A test participant may be subject to civil and criminal penalties, administrative sanctions, liquidated damages, and/or discontinuance from participation in this test for any of the following:

• Failure to follow the terms and conditions of this test.

• Failure to exercise reasonable care in the execution of participant obligations.

• Failure to abide by applicable laws and regulations that have not been waived.

• Failure to deposit duties or fees in a timely manner.

If the Director, Business Transformation, ACE Business Office (ABO), Office of International Trade finds that there is a basis for discontinuance of test participation privileges, the test participant will be provided a written notice proposing the discontinuance with a description of the facts or conduct warranting the action. The test participant will be offered the opportunity to appeal the Director's decision in writing within 10 calendar days of receipt of the written notice. The appeal must be submitted to Executive Director, ABO, Office of International Trade by emailing BrendaBrockman.Smith@cbp.dhs.gov. The Executive Director will issue a decision in writing on the proposed action within 30 working days after receiving a timely filed appeal from the test participant. If no timely appeal is received, the proposed notice becomes the final decision of the Agency as of the date that the appeal period expires. A proposed discontinuance of a test participant's privileges will not take effect unless the appeal process under this paragraph has been concluded with a written decision adverse to the test participant.

In the case of willfulness or those in which public health, interest, or safety so requires, the Director, Business Transformation, ABO, Office of International Trade, may immediately discontinue the test participant's privileges upon written notice to the test participant. The notice will contain a description of the facts or conduct warranting the immediate action. The test participant will be offered the opportunity to appeal the Director's decision within 10 calendar days of receipt of the written notice providing for immediate discontinuance. The appeal must be submitted to Executive Director, ABO, Office of International Trade by emailing BrendaBrockman.Smith@cbp.dhs.gov. The immediate discontinuance will remain in effect during the appeal period. The Executive Director will issue a decision in writing on the discontinuance within 15 working days after receiving a timely filed appeal from the test participant. If no timely appeal is received, the notice becomes the final decision of the Agency as of the date that the appeal period expires.

XV. Development of ACE Prototypes

A chronological listing of Federal Register publications detailing ACE test developments is set forth below.

• ACE Portal Accounts and Subsequent Revision Notices: 67 FR 21800 (May 1, 2002); 70 FR 5199 (February 1, 2005); 69 FR 5360 and 69 FR 5362 (February 4, 2004); 69 FR 54302 (September 8, 2004).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE), 78 FR 44142, published July 23, 2013.

• Modification of Two National Customs Automation Program (NCAP) Tests Concerning Automated Commercial Environment (ACE) Document Image System (DIS) and Simplified Entry (SE); Correction; 78 FR 53466, published August 29, 2013.

• Modification of NCAP Test Concerning Automated Commercial Environment (ACE) Cargo Release (formerly known as Simplified Entry): 78 FR 66039, published November 4, 2013.

• Post-Summary Corrections to Entry Summaries Filed in ACE Pursuant to the ESAR IV Test: Modifications and Clarifications: 78 FR 69434, published November 19, 2013.

Dated: December 9, 2013.
Richard F. DiNucci,
Acting Assistant Commissioner, Office of International Trade.

[FR Doc. 2013-29724 Filed 12-12-13; 8:45 am]

BILLING CODE 9111-14-P